DEPARTMENT OF THE INTERIOR

Fish and Wildlife Service

50 CFR Part 17

[Docket No. FWS-R9-ES-2008-0125; 92100-1111-0000-B3]

RIN 1018-AW09

Endangered and Threatened Wildlife and Plants; 44 Marine and Anadromous Taxa: Adding 10 Taxa, Delisting 1 Taxon, Reclassifying 1 Taxon, and Updating 32 Taxa on the List of Endangered and Threatened Wildlife

AGENCY: Fish and Wildlife Service, Interior.

ACTION: Final rule.

SUMMARY: We, the U.S. Fish and Wildlife Service (Service), are amending the List of Endangered and Threatened Wildlife (List) by adding 10 marine taxa, delisting 1 marine taxon, reclassifying 1 marine taxon, and revising 32 marine taxa in accordance with the Endangered Species Act of 1973, as amended (Act). These amendments are based on previously published determinations by the National Marine Fisheries Service (NMFS) of the National Oceanic and Atmospheric Administration, Department of Commerce, which has jurisdiction for these species.

DATES: This rule is effective April 13, 2011. For applicability date by individual taxon, see table 1 in SUPPLEMENTARY INFORMATION.

FOR FURTHER INFORMATION CONTACT: Michael Franz, 703-358-2171.

SUPPLEMENTARY INFORMATION:

Background

In accordance with the Act (16 U.S.C. 1531 et seq.) and Reorganization Plan No. 4 of 1970 (35 FR 15627; October 6, 1970), NMFS has jurisdiction over the marine and anadromous taxa specified in this rule. Under section 4(a)(2) of the Act, NMFS must decide whether a species under its jurisdiction should be classified as endangered or threatened. NMFS makes these determinations via its formal rulemaking process. We, the Service, are then responsible for publishing final rules to amend the List in the Code of Federal Regulations (CFR) at 50 CFR 17.11(h).

Under section 4(a)(2)(A) of the Act, if NMFS determines that a species should be listed as endangered or threatened, or that a species' status should be changed from threatened to endangered, then NMFS is required to inform the Service of the status change. The Service is then responsible for implementing the status change by publishing a final rule to amend the List 50 CFR 17.11(h). Under section 4(a)(2)(B) of the Act, if NMFS determines that a species should be removed from the List (delisted), or that a species' status should be changed from an endangered to a threatened species, then NMFS is required to recommend the status change to the Service. If the Service concurs with the recommended status change, then the Service will implement the status change by publishing a final rule to amend the List 50 CFR 17.11(h).

As described below and set forth at table 1, NMFS has published rules regarding each of the species mentioned in this rule. Section 4(a)(2)(A) applies to all of the rules except that for the Caribbean monk seal; with respect to those rules, by publishing this final rule, we are simply taking the necessary administrative step to codify these changes in the CFR. Section 4(a)(2)(B) applies to the NMFS's recommendation to delist the Caribbean monk seal; we have concurred with NMFS's recommendation, and this rule implements that action.

Listings

We are adding the following ten species to the List based on NMFS final rules:

• Coho salmon, Lower Columbia River evolutionarily significant unit (ESU), as threatened (70 FR 37160; June 28, 2005);

• Steelhead, Puget Sound distinct population segment (DPS), as threatened (72 FR 26722; May 11, 2007);

• Coho salmon, Oregon Coast ESU, as threatened with critical habitat (73 FR 7816; February 11, 2008);

• Beluga whale, Cook Inlet DPS, as endangered (73 FR 62919; October 22, 2008);

• Black abalone as endangered (74 FR 1937; January 14, 2009);

• Bocaccio, Puget Sound/Georgia Basin DPS, as endangered (75 FR 22276; April 28, 2010);

• Canary rockfish, Puget Sound/Georgia Basin DPS, as threatened (75 FR 22276; April 28, 2010);

• Pacific eulachon, Southern DPS, as threatened (75 FR 13012; March 18, 2010); and

• Yelloweyerockfish, Puget Sound/Georgia Basin DPS, as threatened (75 FR 22276; April 28, 2010);

• Spotted seal, southern DPS, as threatened (75 FR 65239), with a 4(d) rule.

Please note: The Oregon Coast coho salmon ESU was listed on August 10, 1998, as threatened (63 FR 42587), but in 2001, the U.S. District Court in Eugene, Oregon, set aside that listing (AlseaValleyAlliance v. Evans, 161 F. Supp. 2d 1154, (D. Or. 2001)). On February 11, 2008, NMFS listed the Oregon Coast coho salmon ESU as threatened, issued protective regulations under section 4(d) of the Act (known as a 4(d) rule), and designated critical habitat (73 FR 7816). As a result of another court challenge (Douglas County v. Balsiger (Civ. No. 08-01547; D. Or. 2008), NMFS reached a settlement with the litigants and agreed to conduct another status review of the ESU. After conducting the additional status review, NMFS proposed to affirm the status for this ESU by promulgating a rule to supersede its February 11, 2008, listing determination (75 FR 29489; May 26, 2010).

Delisting

We are delisting the following species based on a NMFS final rule:

• Caribbean monk seal (73 FR 63901; October 28, 2008).

Reclassification

We are reclassifying the following species based on a NMFS final rule:

• Coho salmon, Central California Coast ESU, from threatened to endangered (70 FR 37160; June 28, 2005).

Revisions

We are updating 32 entries on the List based on NMFS final rules and to make these entries easier for the public to identify as follows:

• “Common Name” (adding ESU subtitles) and “Vertebrate population where endangered or threatened” updates for 14 salmon ESUs—Chinook (California coastal, Central Valley spring-run, Lower Columbia River, Puget Sound, Sacramento River winter-run, Snake River fall-run, Snake River spring/summer, Upper Columbia River spring-run (as discussed below), and Upper Willamette), chum (Columbia River, Hood Canal summer-run), coho (Central California Coast, Southern Oregon-Northern California Coast), and sockeye (Ozette Lake, Snake River)(70 FR 37160; June 28, 2005).

• Common Name” (adding DPS subtitles) and “Vertebrate population where endangered or threatened” updates for 10 steelhead DPSs—California Central Valley, Central California Coast, Lower Columbia River, Middle Columbia River, Northern California, Snake River Basin, South-Central California Coast, Southern California, Upper Columbia River, and Upper Willamette River (71 FR 833; January 5, 2006).

• A status correction from threatened to endangered for the Upper Columbia River spring-run Chinook ESU (64 FR 14308, March 24, 1999; and 70 FR 37160, June 28, 2005) (This is the second change described to the entry for this species; the first is listed above with the updates to the 14 salmon ESUs.).

• A new common name (Salmon, Atlantic, Gulf of Maine DPS) for the endangered Salmosalar, which is jointly listed as a DPS by NMFS and the Service, to make it clearer to the public and a critical habitat entry (74 FR 29344, June 19, 2009; and 74 FR 29300, June 19, 2009).

• A right whale taxonomic revision of March 6, 2008 (73 FR 12024), which is consistent with the technical revision of 68 FR 17560 (April 10, 2003). We formally accept the technical revisions of 68 FR 17560 as of this publication and revise the North Pacific right whale to add the critical habitat entry of April 8, 2008 (73 FR 19000).

• A critical habitat entry for the Southern Resident DPS of killer whale (71 FR 69054; November 29, 2006), United States DPS of the smalltooth sawfish (74 FR 45353; September 2, 2009), elkhorn coral and staghorn coral (74 FR 72209; November 26, 2008), and Southern DPS of the North American green sturgeon (74 FR 52299; October 9, 2009).

• A 4(d) rule entry for Puget Sound steelhead (73 FR 55451; September 25, 2008), elkhorn and staghorn corals (73 FR 64264; October 29, 2008), and the Southern DPS of green sturgeon (75 FR 30714; June 2, 2010).

The previous NMFS Federal Register publications to propose and finalize listings for these species are in table 1. In all cases, within the published final rule, NMFS addressed the public comments received.

Table 1—Rulemaking Actions by the National Marine Fisheries Service To Add Marine and Anadromous Species to the List of Endangered and Threatened Wildlife
Common name | Scientific name | Proposed rule publication date, action | Final rule publication date, change in action (If any) | Effective date
Lower Columbia River evolutionarily significant unit (ESU) of coho salmon | Oncorhynchuskisutch | June 14, 2004 (69 FR 33102), to list as threatened | June 28, 2005 (70 FR 37160) | August 29, 2005.
16 ESUs of West Coast salmon | Oncorhynchustshawytscha, Oncorhynchuskisutch, Oncorhynchusnerka, Oncorhyn-chusketa | June 14, 2004 (69 FR 33102), proposed rule on 27 DPSs of salmon, including reclassifying the Central California Coast ESU of coho salmon (Oncorhyn-chuskisutch) from threatened to endangered | June 28, 2005 (70 FR 37160), final rule for listing determinations of 16 ESUs of West Coast salmon | August 29, 2005.
10 DPSs of West Coast steelhead | Oncorhynchusmykiss | June 14, 2004 (69 FR 33102), proposed rule on 10 DPSs of steelhead, including reclassifying the Upper Columbia River DPS from endangered to threatened | January 5, 2006 (71 FR 833), final rule for listing determinations for 10 DPSs of West Coast steelhead | February 6, 2006.
Killer whale | Orcinus orca | June 15, 2006 (71 FR 34571), to designate critical habitat | November 29, 2006 (71 FR 69054) | December 29, 2006.
Puget Sound distinct population segment (DPS) of steelhead | Oncorhynchusmykiss | March 29, 2006 (71 FR 15666), to list as threatened | May 11, 2007 (72 FR 26722) | June 11, 2007.
|  | May 11, 2007 (72 FR 26722), to issue protective regulations (a 4(d) rule) | September 25, 2008 (73 FR 55451) | October 27, 2008.
North Atlantic right, North Pacific right, and Southern right whale | Eubalaenaglacialis, Eubalaena japonica, Eubalaenaaustralis | December 27, 2006 (71 FR 77694), taxonomic revision | March 6, 2008 (73 FR 12024) | April 7, 2008.
North Pacific right whale | Eubalaena japonica | October 29, 2007 (72 FR 61089), to designate critical habitat | April 8, 2008 (73 FR 19000) | May 8, 2008.
Oregon Coast ESU of coho salmon | Oncorhynchuskisutch | June 14, 2004 (69 FR 33102), to list as threatened | February 11, 2008 (73 FR 7816) | May 12, 2008.
Caribbean monk seal | Monachustropicalis | June 9, 2008 (73 FR 32521), to delist | October 28, 2008 (73 FR 63901) | October 28, 2008.
Cook Inlet DPS of beluga whale | Delphinapterusleucas | April 20, 2007 (72 FR 19854), to list as endangered | October 22, 2008 (73 FR 62919) | December 22, 2008.
Elkhorn and staghorn corals | Acroporapalmata, Acroporacervicornis | December 14, 2007 (72 FR 71102), to issue protective regulations (a 4(d) rule) | October 29, 2008 (73 FR 64264) | November 28, 2008.
|  | February 6, 2008 (73 FR 6895), to designate critical habitat | November 26, 2008 (73 FR 72210) | December 26, 2008.
Black abalone | Haliotiscracherodii | January 11, 2008 (73 FR 1986), to list as endangered | January 14, 2009 (74 FR 1937) | February 13, 2009.
Atlantic salmon (Gulf of Maine DPS) | Salmosalar | September 3, 2008 (73 FR 51415), to list a distinct population segment (DPS) as endangered | DPS—June 19, 2009 (74 FR 29344) | July 20, 2009.
|  | September 5, 2008 (73 FR 51747), to designate critical habitat | Critical habitat—June 19, 2009 (74 FR 29300) | July 20, 2009.
Smalltooth sawfish (United States DPS) | Pristispectinata | November 20, 2008 (73 FR 70290), to designate critical habitat | September 2, 2009 (74 FR 45353) | October 2, 2009.
North American green sturgeon (Southern DPS) | Acipensermedirostris | September 8, 2008 (73 FR 52084), to designate critical habitat | October 9, 2009 (74 FR 52300) | November 9, 2009.
|  | May 21, 2009 (74 FR 23822), to issue protective regulations (a 4(d) rule) | June 2, 2010 (75 FR 30714) | July 2, 2010.
Eulachon, Pacific (Southern DPS) | Thaleichthyspacificus | March 13, 2009 (74 FR 10857) to list as threatened | March 18, 2010 (75 FR 13012) | May 17, 2010.
Yelloweye rockfish, canary rockfish, bocaccio (Puget Sound/Georgia Basin DPS), | Sebastesruberrimus Sebastespinniger Sebastespaucispinis | April 23, 2009 (74 FR 18516), to list as endangered or threatened | April 28, 2010 (75 FR 22276) | July 27, 2010.
Spotted seal (southern DPS) | Phocalargha | October 20, 2009 (74 FR 53685), to list as threatened, with 4(d) rule | October 25, 2010 (75 FR 65239) | November 22, 2010.

Administrative Procedure Act

Because NMFS provided a public comment period on each of the proposed rules for these taxa, we find good cause that the notice and public comment procedures of 5 U.S.C. 553(b) are unnecessary for this action. We also find good cause under 5 U.S.C. 553(d)(3) to make this rule effective immediately upon publication. The NMFS rules extended protection under the Act to these species and listed them in 50 CFR parts 223 and 224 or designated critical habitat under 50 CFR part 226; this rule is an administrative action to add the species to or update their status on the List in 50 CFR 17.11(h). The public would not be served by delaying the effective date of this rulemaking action.

Required Determinations

National Environmental Policy Act

We have determined that an environmental assessment, as defined under the authority of the National Environmental Policy Act of 1969, need not be prepared in connection with regulations adopted pursuant to section 4(a) of the Act. We outlined our reasons for this determination in the Federal Register on October 25, 1983 (48 FR 49244).

Paperwork Reduction Act

We have examined this regulation under the Paperwork Reduction Act of 1995 and found it to contain no information collection requirements. We may not conduct or sponsor, and you are not required to respond to, a collection of information unless it displays a currently valid Office of Management and Budget (OMB) control number.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

§ 17.11 [Amended]

2. Amend § 17.11(h) by:

a. Removing the entry under MAMMALS for “Seal, Caribbean monk”;

b. Revising the entries under MAMMALS for “Whale, killer” and “Whale, North Pacific right”; under FISHES for

• “Salmon, Atlantic (Gulf of Maine DPS)”,

• “Salmon, Chinook (California Coastal ESU)”,

• “Salmon, Chinook (Central Valley spring-run ESU)”,

• “Salmon, Chinook (Lower Columbia River ESU)”,

• “Salmon, Chinook (Puget Sound ESU)”,

• “Salmon, Chinook (Sacramento River winter-run ESU)”,

• “Salmon, Chinook (Snake River fall-run ESU)”,

• “Salmon, Chinook (Snake River spring/summer-run ESU)”,

• “Salmon, Chinook (Upper Columbia spring-run ESU)”,

• “Salmon Chinook (Upper Willamette River ESU)”,

• “Salmon, chum (Columbia River ESU)”,

• “Salmon, chum (Hood Canal summer-run ESU)”,

• “Salmon, coho (Central California Coast ESU)”,

• “Salmon, coho (Southern Oregon-northern California Coast ESU)”,

• “Salmon, sockeye (Ozette Lake ESU)”,

• “Salmon, sockeye (Snake River ESU)”,

• “Sawfish, smalltooth (United States DPS)”,

• “Steelhead (California Central Valley DPS)”,

• “Steelhead (Central California Coast DPS)”,

• “Steelhead (Lower Columbia River DPS)”,

• “Steelhead (Middle Columbia River DPS)”,

• “Steelhead (Northern California DPS)”,

• “Steelhead (Snake River Basin DPS)”,

• “Steelhead (South Central California Coast DPS)”,

• “Steelhead (Southern California DPS)”,

• “Steelhead (Upper Columbia River DPS)”,

• “Steelhead (Upper Willamette River DPS)”, and

• “Sturgeon, North American green (Southern DPS); and under CORALS for “Coral, elkhorn” and “Coral, staghorn”; and

c. Adding entries in alphabetic order under MAMMALS for “Seal, spotted (Southern DPS)”, “Whale, beluga (Cook Inlet DPS)”; under FISHES for

• “Bocaccio (Puget Sound/Georgia Basin DPS)”,

• “Eulachon, Pacific (Southern DPS)”,

• “Rockfish, canary (Puget Sound/Georgia Basin DPS)”,

• “Rockfish, yelloweye (Puget Sound/Georgia Basin DPS)”,

• “Salmon, coho (Lower Columbia River ESU)”,

• “Salmon, coho (Oregon Coast ESU)”, and

• “Steelhead (Puget Sound DPS)”;

and under SNAILSfor “Abalone, black” to read as set forth below:

Species: Common name | Species: Scientific name | Historic range | Vertebrate population where endangered or threatened | Status | When listed | Critical habitat | Special rules
Mammals
* * * * * * *
Seal, spotted (southern DPS) | Phocalargha | Pacific Ocean; Sea of Japan and northern Yellow Sea | Southern DPS—all breeding populations of spotted seals south of 43 degrees north latitude in the Pacific Ocean | T | 776 | NA | 223.211
Whale, beluga (Cook Inlet DPS) | Delphinapterusleucas | Oceanic; Cook Inlet, northern Gulf of Alaska | Cook Inlet DPS—Cook Inlet, Alaska | E | 776 | NA | NA
* * * * * * *
Whale, killer (Southern Resident DPS) | Orcinus orca | Pacific Ocean | Southern Resident DPS, which consists of whales from the J, K, and L pods, wherever they are found in the wild | E | 756 | 226.206 | NA
* * * * * * *
Whale, North Pacific right | Eubalaena japonica | Oceanic | Entire | E | 3 | 226.215 | NA
* * * * * * *
Fishes
* * * * * * *
Bocaccio (Puget Sound-Georgia Basin DPS) | Sebastespaucispinis | Pacific coast from Punta Blanca, Baja California, to the Gulf of Alaska off Krozoff and Kodiak Islands | Puget Sound-Georgia Basin DPS—U.S.A. (WA) and British Columbia, including Puget Sound and Georgia Basin | E | 776 | NA | NA
* * * * * * *
Eulachon, Pacific (Southern DPS) | Thaleichthyspacificus | Eastern Pacific Ocean, from northern California to southwestern Alaska and into the southeastern Bering Sea | Southern DPS—Populations spawning from the Skeena River in British Columbia (inclusive) south to the Mad River in Northern California (inclusive), wherever found | T | 776 | NA | NA
* * * * * * *
Rockfish, canary (Puget Sound-Georgia Basin DPS) | Sebastespinniger | Pacific coast from Punta Colnett, Baja California, to the Western Gulf of Alaska | Puget Sound-Georgia Basin DPS—U.S.A. (WA) and British Columbia, including Puget Sound and Georgia Basin | T | 776 | NA | NA
Rockfish, yelloweye (Puget Sound-Georgia Basin DPS) | Sebastesruberrimus | Pacific coast from northern Baja California to the Aleutian Islands, Alaska | Puget Sound-Georgia Basin DPS—U.S.A. (WA) and British Columbia, including Puget Sound and Georgia Basin | T | 776 | NA | NA
Salmon, Atlantic (Gulf of Maine DPS) | Salmosalar | U.S.A., Canada, Greenland, western Europe | Gulf of Maine DPS—U.S.A. (ME), which includes all naturally reproducing populations and those river-specific hatchery populations cultured from them. | E | 705 | 226.217 | NA
Salmon, Chinook (California Coastal ESU) | Oncorhynchustshawytscha | North America from Ventura River in California to Point Hope, Alaska, and the Mackenzie River area in Canada; northeast Asia from Hokkaido, Japan, to the Anadyr River, Russia | California Coastal ESU—U.S.A. (CA), including all naturally spawned populations of Chinook salmon from rivers and streams south of the Klamath River to the Russian River, California, as well as seven artificial propagation programs: See 223.102 | T | 674 | 226.211 | NA
Salmon, Chinook (Central Valley spring-run ESU) | Oncorhynchustshawytscha | North America from Ventura River in California to Point Hope, Alaska, and the Mackenzie River area in Canada; northeast Asia from Hokkaido, Japan, to the Anadyr River, Russia | Central Valley spring-run ESU—U.S.A. (CA), including all naturally spawned populations of spring-run Chinook salmon in the Sacramento River and its tributaries in California, including the Feather River, as well as the Feather River Hatchery spring-run Chinook program | T | 674 | 226.211 | NA
Salmon, Chinook (Lower Columbia River ESU) | Oncorhynchustshawytscha | North America from Ventura River in California to Point Hope, Alaska, and the Mackenzie River area in Canada; northeast Asia from Hokkaido, Japan, to the Anadyr River, Russia | Lower Columbia River ESU—U.S.A. (OR, WA), including all naturally spawned populations of Chinook salmon from the Columbia River and its tributaries from its mouth at the Pacific Ocean upstream to a transitional point between Washington and Oregon east of the Hood River and the White Salmon River, and includes the Willamette River to Willamette Falls, Oregon, exclusive of spring-run Chinook salmon in the Clackamas River, as well as 17 artificial propagation programs: See 223.102 | T | 664 | 226.212 | 223.203
Salmon, Chinook (Puget Sound ESU) | Oncorhynchustshawytscha | North America from Ventura River in California to Point Hope, Alaska, and the Mackenzie River area in Canada; northeast Asia from Hokkaido, Japan, to the Anadyr River, Russia | Puget Sound ESU—U.S.A. (WA), including all naturally spawned populations of Chinook salmon from rivers and streams flowing into Puget Sound including the Straits of Juan De Fuca from the Elwha River, eastward, including rivers and streams flowing into Hood Canal, South Sound, North Sound and the Strait of Georgia in Washington, as well as 26 artificial propagation programs: See 223.102 | T | 664 | 226.212 | 223.203
Salmon, Chinook (Sacramento River winter-run ESU) | Oncorhynchustshawytscha | North America from Ventura River in California to Point Hope, Alaska, and the Mackenzie River area in Canada; northeast Asia from Hokkaido, Japan, to the Anadyr River, Russia | Sacramento River winter-run ESU—U.S.A. (CA), including all naturally spawned populations of winter-run Chinook salmon in the Sacramento River and its tributaries in California, as well as two artificial propagation programs: See 224.101(a) | E | 383E, 407, 534 | 226.204 | NA
Salmon, Chinook (Snake River fall ESU) | Oncorhynchustshawytscha | North America from Ventura River in California to Point Hope, Alaska, and the Mackenzie River area in Canada; northeast Asia from Hokkaido, Japan, to the Anadyr River, Russia | Snake River fall-run ESU—U.S.A. (ID, OR, WA), including all naturally spawned populations of fall-run Chinook salmon in the mainstem Snake River below Hells Canyon Dam, and in the Tucannon River, Grande Ronde River, Imnaha River, Salmon River, and Clearwater River, as well as four artificial propagation programs: See 223.102 | T | 516, 557E | 226.205 | NA
Salmon, Chinook (Snake River spring/summer-run ESU) | Oncorhynchustshawytscha | North America from Ventura River in California to Point Hope, Alaska, and the Mackenzie River area in Canada; northeast Asia from Hokkaido, Japan, to the Anadyr River, Russia | Snake River spring/summer-run ESU—U.S.A. (ID, OR, WA), including all naturally spawned populations of spring/summer-run Chinook salmon in the mainstem Snake River and the Tucannon River, Grande Ronde River, Imnaha River, and Salmon River subbasins, as well as 15 artificial propagation programs: See 223.102 | T | 516, 557E | 226.205 | NA
Salmon, Chinook (Upper Columbia spring-run ESU) | Oncorhynchustshawytscha | North America from Ventura River in California to Point Hope, Alaska, and the Mackenzie River area in Canada; northeast Asia from Hokkaido, Japan, to the Anadyr River, Russia | Upper Columbia spring-run ESU—U.S.A. (WA), including all naturally spawned populations of Chinook salmon in all river reaches accessible to Chinook salmon in Columbia River tributaries upstream of the Rock Island Dam and downstream of Chief Joseph Dam in Washington (excluding the Okanogan River), the Columbia River from a straight line connecting the west end of the Clatsop jetty (south jetty, Oregon side) and the west end of the Peacock jetty (north jetty, Washington side) upstream to Chief Joseph Dam in Washington, as well as six artificial propagation programs: See 224.101(a) | E | 664 | 226.212 | NA
Salmon, Chinook (Upper Willamette River ESU) | Oncorhynchustshawytscha | North America from Ventura River in California to Point Hope, Alaska, and the Mackenzie River area in Canada; northeast Asia from Hokkaido, Japan, to the Anadyr River, Russia | Upper Willamette River ESU—U.S.A. (OR), including all naturally spawned populations of spring-run Chinook salmon in the Clackamas River and in the Willamette River, and its tributaries, above Willamette Falls, Oregon, as well as seven artificial propagation programs: See 223.102 | T | 664 | 226.212 | 223.203
Salmon, chum (Columbia River ESU) | Oncorhynchusketa | North Pacific Rim from Korea and the Japanese Island of Honshu east to Monterey Bay, California; Arctic Ocean from the Laptev Sea in Russia to Mackenzie River in Canada | Columbia River ESU—U.S.A. (OR, WA), including all naturally spawned populations of chum salmon in the Columbia River and its tributaries in Washington and Oregon, as well as three artificial propagation programs: See 223.102 | T | 664 | 226.212 | 223.203
Salmon, chum (Hood Canal summer-run ESU) | Oncorhynchusketa | North Pacific Rim from Korea and the Japanese Island of Honshu east to Monterey Bay, California; Arctic Ocean from the Laptev Sea in Russia to Mackenzie River in Canada | Hood Canal summer-run ESU—U.S.A. (WA), including all naturally spawned populations of summer-run chum salmon in Hood Canal and its tributaries as well as populations in Olympic Peninsula rivers between Hood Canal and Dungeness Bay, Washington, as well as eight artificial propagation programs: See 223.102 | T | 664 | 226.212 | 223.203
Salmon, coho (Central California Coast ESU) | Oncorhynchuskisutch | North Pacific Basin from U.S.A. (CA to AK) to Russia and Japan | Central California Coast ESU—U.S.A. (CA), including all naturally spawned populations of coho salmon from Punta Gorda in northern California south to and including the San Lorenzo River in central California, as well as populations in tributaries to San Francisco Bay, excluding the Sacramento-San Joaquin River system, as well as four artificial propagation programs: See 224.101(a) | E | 598 | 226.210 | NA
Salmon, coho (Lower Columbia River ESU) | Oncorhynchuskisutch | North Pacific Basin from U.S.A. (CA to AK) to Russia and Japan | Lower Columbia River ESU—U.S.A. (OR, WA), including all naturally spawned populations of coho salmon in the Columbia River and its tributaries in Washington and Oregon, from the mouth of the Columbia up to and including the Big White Salmon and Hood Rivers, and includes the Willamette River to Willamette Falls, Oregon, as well as 25 artificial propagation programs: See 223.102 | T | 776 | NA | NA
Salmon, coho (Oregon Coast ESU) | Oncorhynchuskisutch | North Pacific Basin from U.S.A. (CA to AK) to Russia and Japan | Oregon Coast ESU—U.S.A. (OR), all naturally spawned populations of coho salmon in Oregon coastal streams south of the Columbia River and north of Cape Blanco, including the Cow Creek (Oregon Department of Fish and Wildlife stock #37) coho hatchery program | T | 776 | 226.212 | 223.203
Salmon, coho (Southern Oregon-Northern California Coast ESU) | Oncorhynchuskisutch | North Pacific Basin from U.S.A. (CA to AK) to Russia and Japan | Southern Oregon-Northern California Coast ESU—U.S.A. (CA, OR), including all naturally spawned populations of coho salmon in coastal streams between Cape Blanco, Oregon, and Punta Gorda, California, as well as three artificial propagation programs: See 223.102 | T | 618 | 226.210 | NA
Salmon, sockeye (Ozette Lake ESU) | Oncorhynchusnerka | North Pacific Basin from U.S.A. (CA) to Russia | Ozette Lake ESU—U.S.A. (WA), including all naturally spawned populations of sockeye salmon in Ozette Lake and streams and tributaries flowing into Ozette Lake, Washington, as well as two artificial propagation programs: See 223.102 | T | 664 | 226.212 | 223.203
Salmon, sockeye (Snake River ESU) | Oncorhynchusnerka | North Pacific Basin from U.S.A. (CA) to Russia | Snake River ESU—U.S.A. (ID), including all anadromous and residual sockeye salmon from the Snake River Basin, Idaho, as well as artificially propagated sockeye salmon from the Redfish Lake captive propagation program | E | 455 | 226.205 | NA
Sawfish, smalltooth (United States DPS) | Pristispectinata | North Atlantic (Mediterranean, U.S. Atlantic and Gulf of Mexico) and the Southwest Atlantic | United States, DPS, Gulf of Mexico from Texas to Florida and along the east coast from Florida to Cape Hatteras | E | 748 | 226.218 | NA
* * * * * * *
Steelhead (California Central Valley DPS) | Oncorhynchusmykiss | North Pacific Ocean from the Kamchatka Peninsula in Asia to the northern Baja Peninsula | California Central Valley DPS—U.S.A. (CA), including all naturally spawned anadromous O. mykisssteelhead populations below natural and manmade impassable barriers in the Sacramento and San Joaquin Rivers and their tributaries, excluding steelhead from San Francisco and San Pablo Bays and their tributaries. It also includes steelhead from the Coleman National Fish Hatchery and Feather River Hatchery programs | T | 638 | 226.211 | 223.203
Steelhead (Central California Coast DPS) | Oncorhynchusmykiss | North Pacific Ocean from the Kamchatka Peninsula in Asia to the northern Baja Peninsula | Central California Coast DPS—U.S.A. (CA), including all naturally spawned anadromous O. mykiss (steelhead) populations below natural and manmade impassable barriers in California streams from the Russian River (inclusive) to Aptos Creek (inclusive), and the drainages of San Francisco and San Pablo Bays eastward to Chipps Island at the confluence of the Sacramento and San Joaquin Rivers. Tributary streams to Suisun Marsh including Suisun Creek, Green Valley Creek, and anunnamed tributary to Cordelia Slough (commonly referred to as Red Top Creek), excluding the Sacramento-San Joaquin River Basin, It also includes steelhead from the Don Clausen Fish Hatchery and Kingfisher Flat Hatchery—Scott Creek (Monterey Bay Salmon and Trout Project) programs | T | 638 | 226.211 | 223.203
Steelhead (Lower Columbia River DPS) | Oncorhynchusmykiss | North Pacific Ocean from the Kamchatka Peninsula in Asia to the northern Baja Peninsula | Lower Columbia River DPS—U.S.A. (OR, WA), including all naturally spawned anadromous O. mykiss (steelhead) populations below natural and manmade impassable barriers in streams and tributaries to the Columbia River between the Cowlitz and Wind Rivers, Washington, inclusive, and the Willamette and Hood Rivers, Oregon, inclusive. It also includes steelhead from 10 artificial propagation programs: See 223.102 | T | 638 | 226.212 | 223.203
Steelhead (Middle Columbia River DPS) | Oncorhynchusmykiss | North Pacific Ocean from the Kamchatka Peninsula in Asia to the northern Baja Peninsula | Middle Columbia River DPS—U.S.A. (OR, WA), including all naturally spawned anadromous O. mykiss (steelhead) populations below natural and manmade impassable barriers in streams from above the Wind River, Washington, and the Hood River, Oregon (exclusive), upstream to, and including, the Yakima River, Washington, excluding O. mykiss from the Snake River Basin. It also includes steelhead from seven artificial propagation programs: See 223.102 | T | 664 | 226.212 | 223.203
Steelhead (Northern California DPS) | Oncorhynchusmykiss | North Pacific Ocean from the Kamchatka Peninsula in Asia to the northern Baja Peninsula | Northern California DPS—U.S.A. (CA), including all naturally spawned anadromous O. mykiss (steelhead) populations below natural and manmade impassable barriers in California coastal river basins from Redwood Creek southward to, but not including, the Russian River. It also includes steelhead from the Yager Creek Hatchery, and North Fork Gualala River Hatchery (Gualala River Steelhead Project) hatchery programs | T | 701 | 226.211 | NA
Steelhead (Puget Sound DPS) | Oncorhynchusmykiss | North Pacific Ocean from the Kamchatka Peninsula in Asia to the northern Baja Peninsula | Puget Sound DPS—U.S.A. (WA), including all naturally spawned anadromous O. mykiss (steelhead) populations, from streams in the river basins of the Strait of Juan de Fuca, Puget Sound, and Hood Canal, Washington, bounded to the west by the Elwha River (inclusive) and to the north by the Nooksack River and Dakota Creek (inclusive), as well as the Green River natural and HammaHamma winter-run steelhead hatchery stocks | T | 776 | NA | 223.203
Steelhead (Snake River Basin DPS) | Oncorhynchusmykiss | North Pacific Ocean from the Kamchatka Peninsula in Asia to the northern Baja Peninsula | Snake River Basin DPS—U.S.A. (ID, OR, WA), including all naturally spawned anadromous O. mykiss (steelhead) populations below natural and manmade impassable barriers in streams in the Snake River Basin of southeast Washington, northeast Oregon, and Idaho. It also includes steelhead from six artificial propagation programs: See 223.102 | T | 638 | 226.212 | 223.203
Steelhead (South Central California Coast DPS) | Oncorhynchusmykiss | North Pacific Ocean from the Kamchatka Peninsula in Asia to the northern Baja Peninsula | South Central California Coast DPS—U.S.A. (CA), including all naturally spawned anadromous O. mykiss (steelhead) populations below natural and manmade impassable barriers in streams from the Pajaro River (inclusive), to (but not including) the Santa Maria River, California | T | 638 | 226.211 | 223.203
Steelhead (Southern California DPS) | Oncorhynchusmykiss | North Pacific Ocean from the Kamchatka Peninsula in Asia to the northern Baja Peninsula | Southern California DPS—U.S.A. (CA), including all naturally spawned anadromous O. mykiss (steelhead) populations below natural and manmade impassable barriers in streams from the Santa Maria River, San Luis Obispo County, California, (inclusive) to the U.S.-Mexico border | E | 638 | 226.211 | NA
Steelhead (Upper Columbia River DPS) | Oncorhynchusmykiss | North Pacific Ocean from the Kamchatka Peninsula in Asia to the northern Baja Peninsula | Upper Columbia River DPS—U.S.A. (WA), including all naturally spawned anadromous O. mykiss (steelhead) populations below natural and manmade impassable barriers in streams in the Columbia River Basin upstream from the Yakima River, Washington, to the U.S.-Canada border, as well as six artificial propagation programs: See 223.102 | T | 638 | 226.212 | NA
Steelhead (Upper Willamette River DPS) | Oncorhynchusmykiss | North Pacific Ocean from the Kamchatka Peninsula in Asia to the northern Baja Peninsula | Upper Willamette River DPS—U.S.A. (OR), including all naturally spawned anadromous O. mykiss (steelhead) populations below natural and manmade impassable barriers in the Willamette River, Oregon, and its tributaries upstream from Willamette Falls to the Calapooia River, inclusive | T | 664 | 226.212 | 223.203
* * * * * * *
Sturgeon, North American green (Southern DPS) | Acipensermedirostris | U.S.A. (CA) | Southern DPS—U.S.A. (CA), which includes all spawning populations south of the Eel River (exclusive), principally including the Sacramento River spawning population | T | 756 | 226.219 | 223.210
* * * * * * *
Snails
* * * * * * *
Abalone, Black | Haliotiscracherodii | North America (West coast from Crescent City, CA, USA, to Cape San Lucas, Baja California, Mexico | NA | E | 776 | NA | NA
* * * * * * *
Corals
* * * * * * *
Coral, elkhorn | Acroporapalmata | U.S.A. (FL, PR, VI, Navassa); and wider Caribbean—Belize, Colombia, Costa Rica, Guatemala, Honduras, Mexico, Nicaragua, Panama, Venezuela, and all the islands of the West Indies | NA | T | 756 | 226.216 | 223.208
Coral, staghorn | Acroporacervicornis | U.S.A. (FL, PR, VI, Navassa); and wider Caribbean—Belize, Colombia, Costa Rica, Guatemala, Honduras, Mexico, Nicaragua, Panama, Venezuela, and all the islands of the West Indies | NA | T | 756 | 226.216 | 223.208

Dated: February 10, 2011.
Rowan W. Gould,
Acting Director, U.S. Fish and Wildlife Service.

[FR Doc. 2011-8822 Filed 4-12-11; 8:45 am]

BILLING CODE P